DEPARTMENT OF TRANSPORTATION

Federal Highway Administration

Notice of Availability of the Draft Environmental Impact Statement for a Proposed Project in Mariposa County, CA

AGENCY: Federal Highway Administration (FHWA), DOT.

ACTION: Notice of availability of the Draft Environmental Impact Statement.

SUMMARY: The FHWA, on behalf of the California Department of Transportation (Caltrans), announces the availability of the Draft Environmental Impact Statement (DEIS) for a proposed Ferguson Slide Permanent Restoration Project in Mariposa County, California.

DATES: Public circulation of this document will begin on November 15, 2010 and will end on January 13, 2011. An open forum public hearing will be held for this project on Wednesday, December 8, 2010 between 4 p.m. and 7 p.m. in Mariposa. The location is Mariposa County Government Center, 5100 Bullion Street, Mariposa, CA 95338 in the Board of Supervisors Chambers. An additional open forum public hearing will be held for this project on Thursday, December 9, 2010 between 4 p.m. and 7 p.m. in El Portal. The location is the El Portal Community Center, El Portal, CA 95318.

ADDRESSES: This document will be available at the Caltrans District 10 office, 1976 Dr Martin Luther King Jr. Blvd, Stockton, CA 95205 on weekdays from 8 a.m. to 5 p.m. Copies of the document can also be read at the Mariposa County Library at 4978 10th Street, Mariposa, CA 95338 and at the El Portal Post Office at 5508 Foresta Road, El Portal, CA 95318. The Draft EIS is also available at http://www.dot.ca.gov/dist10/environmental/projects/fergusonslide/index.htm.

FOR FURTHER INFORMATION CONTACT: Kirsten Helton, 2015 East Shields Ave., Suite 100, Fresno, CA 93726. Phone 559-243-8224 or Kirsten_Helton@dot.ca.gov.

SUPPLEMENTARY INFORMATION: Effective July 1, 2007, the FHWA assigned, and Caltrans assumed, environmental responsibilities for this project pursuant to 23 U.S.C. 327. Caltrans as the assigned National Environmental Policy Act (NEPA) agency, has prepared a DEIS that evaluates 6 build alternatives to permanently restore and reopen the section of State Route 140 that was damaged by the Ferguson rockslide. Motorists are currently using a temporary bypass route to travel to this section of State Route 140. Caltrans approved the DEIS on November 5, 2010. Caltrans proposes to restore full highway access between Mariposa and El Portal via State Route 140 in Mariposa County, California by repairing or permanently bypassing the portion of State Route 140 that was blocked and damaged by the Ferguson rockslide. The total length of the project is 0.7 mile. The following build alternatives are being proposed:

Alternative C (Open-cut Realignment)

This alternative would realign the highway to the northeast of its current alignment, spanning the Merced River and bypassing the rockslide. State Route 140 would cut through the mountain across the Merced River from the rockslide and then span back across the river where it would meet the existing alignment. Two bridges would be built across the river.

Alternative T (Tunnel Realignment)

This alternative would realign the highway to the northeast of its current alignment, spanning the Merced River and bypassing the rockslide. State Route 140 would tunnel 700 feet through the mountain across the Merced River from the rockslide and then span back across the river where it would meet the existing alignment. Two bridges would be built across the river.

Alternative T-3 (Tunnel under Slide Realignment)

This alternative would realign the highway by constructing a 2,200-foot-long tunnel under the area of the slide.

Alternative S (Viaduct Realignment)

This alternative would realign the highway to the northeast of its current alignment, spanning the Merced River with two bridges and bypassing the rockslide with a hillside viaduct and retaining wall.

Alternative S-2 (Modified Viaduct Realignment)

This alternative is similar to Alternative S and would realign the highway to the northeast of its current alignment, spanning the Merced River with two bridges and bypassing the rockslide with a hillside viaduct and retaining wall. This alternative differs from Alternative S in that it proposes two bridge type variations along with their own specific roadway alignments. The first (S2-V1) would construct two tied-arch bridges, which use an arch structure with cables above the bridge deck for support. The second (S2-V2) would construct two slant-leg bridges, which use “V”-shaped columns to support the bridge deck.

Alternative R (Rockshed/Tunnel)

This alternative would construct a rockshed (cut-and-cover tunnel) through the talus (foundation layer) of the slide along the existing State Route 140 alignment.

The No-build Alternative would leave State Route 140 damaged and blocked by the Ferguson rockslide. As a result of the No-build Alternative, the temporary detour would continue to function as State Route 140. Either general wear or damage from flooding in a high water year will eventually require the removal of the bridges, supporting structures, and the detour pavement, leading to the permanent closure of State Route 140 at the section damaged by the rockslide.

(Catalog of Federal Domestic Assistance Program Number 20.205, Highway Planning and Construction. The regulations implementing Executive Order 12372 regarding intergovernmental consultation on Federal programs and activities apply to this program.)

Issued on: November 10, 2010.
Cindy Vigue,
Director, State Programs, Federal Highway Administration, Sacramento, California.

[FR Doc. 2010-28933 Filed 11-16-10; 8:45 am]

BILLING CODE 4910-22-P